DEPARTMENT OF HEALTH AND HUMAN SERVICES

Health Resources and Service Administration

Updates to the Bright Futures Periodicity Schedule

AGENCY: Health Resources and Service Administration (HRSA), Department of Health and Human Services (HHS).

ACTION: Notice.

SUMMARY: Effective December 28, 2020, HRSA accepted a recommended update to the Bright Futures Periodicity Schedule, a HRSA-supported guideline for infants, children and adolescents, for purposes of health insurance coverage without cost sharing under the Public Health Service (PHS) Act. The update includes screening for Hepatitis C Virus Infection for individuals ages 18 to 21. Please see https://mchb.hrsa.gov/maternal-child-health-topics/child-health/bright-futures.html for additional information.

FOR FURTHER INFORMATION CONTACT: Bethany D. Miller, MSW, M.Ed., HRSA/Maternal and Child Health Bureau by calling (301) 495-5156 or by emailing at BMiller@hrsa.gov.

SUPPLEMENTARY INFORMATION: The Bright Futures program has been funded by HRSA since 1990. A primary focus of this program is for the funding recipient to maintain and update the Bright Futures Guidelines for Health Supervision of Infants, Children and Adolescents, a set of materials and tools that provide theory-based and evidence-driven guidance for all preventive care screenings and well-child visits. One component of these tools is the Bright Futures Periodicity Schedule, a chart that identifies the recommended screenings, assessments, physical examinations, and procedures to be delivered within preventive checkups at each age milestone. Over the program's existence, the Bright Futures Periodicity Schedule has become the accepted schedule within the United States for preventive health services through the course of a child's development.

Section 2713 of the PHS Act requires that non-grandfathered group health plans and health insurance issuers offering group or individual health insurance coverage provide coverage without cost sharing for certain preventive health services in four identified areas. Section 2713(a)(3) describes such services for infants, children, and adolescents as “evidence-informed preventive care and screenings provided for in the comprehensive guidelines supported by the Health Resources and Services Administration.” HHS, along with the Departments of Treasury and Labor, issued an Interim Final Rule on July 19, 2010, (75 FR 41726-41760) that identified two specific resources as the comprehensive guidelines supported by HRSA for infants, children, and adolescents to be covered by insurance without cost sharing by non-grandfathered group health plans and health insurance issuers: (1) The Bright Futures Periodicity Schedule and (2) the Recommended Uniform Screening Panel of the Advisory Committee on Heritable Disorders in Newborns and Children. The Interim Final Rule provided that a future change to these comprehensive guidelines is considered to be issued for purposes of Section 2713 on the date on which it is accepted by the HRSA Administrator or, if applicable, adopted by the Secretary of HHS.

On December 28, 2020, the HRSA Administrator accepted the recommended update to the Bright Futures Periodicity Schedule. The Bright Futures recommendation included both a recommended clinical practice update and revisions to the footnotes on the Bright Futures Periodicity Schedule. The update includes screening for Hepatitis C Virus Infection for individuals age 18 to 21. The footnote revisions are applied to footnote 11 (Developmental Screening); footnote 12 (Autism Spectrum Disorder Screening) to update the title of the relevant revised policy statements and the electronic hyperlinks; and a new footnote referring to the supporting evidence for the recommendation for screening for hepatitis C virus infection. Therefore, all non-grandfathered group health plans and health insurance issuers offering group or individual health insurance coverage must cover without cost-sharing the services and screenings listed on the updated Bright Futures Periodicity Schedule for plan years (in the individual market, policy years) beginning on or after December 28, 2021.

The updated Bright Futures Periodicity schedule can be accessed at the following link: https://mchb.hrsa.gov/maternal-child-health-topics/child-health/bright-futures.html.

Thomas J. Engels,
Administrator.

[FR Doc. 2020-28971 Filed 12-30-20; 8:45 am]

BILLING CODE 4165-15-P